NUCLEAR REGULATORY COMMISSION

[Docket No. 70-7027; NRC-2022-0201]

Notice of Intent To Conduct Scoping Process and Prepare Environmental Impact Statement; TRISO-X Special Nuclear Material License

AGENCY: Nuclear Regulatory Commission.

ACTION: Intent to prepare an environmental impact statement and conduct a scoping process; request for comment.

SUMMARY: The U.S. Nuclear Regulatory Commission (NRC) received a license application by letters dated April 5, 2022, and September 23, 2022, from TRISO-X, LLC (TRISO-X) a wholly owned subsidiary of X-energy LLC. By its application, TRISO-X is requesting a license to possess and use special nuclear material for the manufacture of high-assay low-enriched uranium (HALEU) fuel at a fuel fabrication facility (FFF) to be located in Oak Ridge, Roane County, Tennessee. The proposed action is the issuance of a license for the possession and use of special nuclear material. The NRC staff will prepare an environmental impact statement (EIS) to document the potential environmental impacts from the proposed action. As part of the EIS development process, the NRC is seeking comments on the scope of its environmental review.

DATES: Submit comments on the scope of the EIS by February 14, 2023. Comments received after this date will be considered if it is practical to do so, but the NRC is able to ensure consideration only for comments received on or before this date.

ADDRESSES: You may submit comments by any of the following methods; however, the NRC encourages electronic comment submission through the Federal rulemaking website (https://www.regulations.gov).

• Federal Rulemaking Website: Go to https://www.regulations.gov and search for Docket ID NRC-2022-0201. Address questions about Docket IDs in Regulations.gov to Stacy Schumann; telephone: 301-415-0624; email: Stacy.Schumann@nrc.gov. For technical questions, contact the individual listed in the For Further Information Contact section of this document.

• Email comments to: Comments may be submitted to the NRC electronically using the email address: TRISOX-EIS@nrc.gov.

• Mail comments to: Office of Administration, Mail Stop: TWFN-7-A60M, U.S. Nuclear Regulatory Commission, Washington, DC 20555-0001, ATTN: Program Management, Announcements and Editing Staff.

• Scoping Meeting: A local in-person meeting will be held on January 25, 2023, to obtain comments. The details of the meeting will be noticed on the NRC's website at least 10 days prior.

For additional direction on obtaining information, see “Obtaining Information and Submitting Comments” in the SUPPLEMENTARY INFORMATION section of this document.

FOR FURTHER INFORMATION CONTACT: Jill Caverly, Office of Nuclear Material Safety and Safeguards, U.S. Nuclear Regulatory Commission, Washington DC, 20555-0001; telephone: 301-415-7674, email: Jill.Caverly@nrc.gov.

SUPPLEMENTARY INFORMATION:

I. Obtaining Information and Submitting Comments

A. Obtaining Information

Please refer to Docket ID NRC-2022-0201 when contacting the NRC about the availability of information regarding this document. You may obtain publicly available information related to this action by the following methods:

• Federal Rulemaking Website: Go to https://www.regulations.gov and search for Docket ID NRC-2022-0201.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. The ADAMS accession number for each document referenced (if it is available in ADAMS) is provided the first time that it is mentioned in this document.

• NRC'S PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. Eastern Time (ET), Monday through Friday, except Federal holidays.

• Project web page: Information related to the TRISO-X license application can be accessed on the NRC's TRISO-X web page at https://www.nrc.gov/info-finder/fc/triso-x.

• Public Library: A copy of the Environmental Report for the application is available for review at the Oak Ridge Public Library, 1401 Oak Ridge Turnpike, Oak Ridge, TN 37830.

B. Submitting Comments

The NRC encourages electronic comment submission through the Federal rulemaking website (https://www.regulations.gov). Please include Docket ID NRC-2022-0201 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Discussion

By letters dated April 5, 2022 (ADAMS Package Accession No. ML22101A200), September 23, 2022 (ADAMS Package Accession No. ML22266A269), and as supplemented on October 13, 2022 (ADAMS Package Accession No. ML22286A144) and November 4, 2022 (ADAMS Package Accession No. ML22308A251), TRISO-X submitted an application to the NRC requesting a license to possess and use special nuclear material for the manufacture of HALEU fuel at its fuel fabrication facility (FFF) to be located in Oak Ridge, Roane County, Tennessee. TRISO-X seeks to manufacture HALEU to support advanced reactors. If issued, the applicant would receive a special nuclear material license for a term of 40 years, issued pursuant to part 70 of title 10 of the Code of Federal Regulations (10 CFR), “Domestic Licensing of Special Nuclear Material.”

The TRISO-X FFF would be located in the Horizon Center Industrial Park on property abutting portions of Renovare Boulevard, within the western limits of the City of Oak Ridge and in the northeastern portion of Roane County, Tennessee. The site is situated in an area dedicated and zoned for industrial development, on an approximately 110-acre greenfield site.

The NRC staff completed an acceptance review of TRISO-X's license application and determined it contains sufficient information for NRC to conduct a detailed technical review. An acceptance letter was issued to TRISO-X on November 18, 2022. The environmental report can be found on the NRC's project-specific web page at https://www.nrc.gov/info-finder/fc/triso-x.

III. Review Process

This notice is to: (1) inform the public that the NRC staff will prepare an EIS as part of its review of TRISO-X's license application in accordance with 10 CFR part 51 “Environmental Protection Regulations for Domestic Licensing and Related Regulatory Functions,” and (2) provide the public with an opportunity to participate in the environmental scoping process as defined in 10 CFR 51.29. In addition, as outlined in 36 CFR 800.8, “Coordination with the National Environmental Policy Act,” the NRC plans to coordinate compliance with Section 106 of the National Historic Preservation Act in meeting the requirements of the National Environmental Policy Act of 1969 (NEPA). The NRC staff also will document its compliance with other applicable federal statutes.

The EIS will address the potential impacts from the proposed action. The anticipated scope of the EIS will consider both radiological and non-radiological (including chemical) impacts associated with the proposed project and its alternatives. The EIS will also consider unavoidable adverse environmental impacts, the relationship between short-term uses of resources and long-term productivity, and irreversible and irretrievable commitments of resources. The following resource areas tentatively have been identified for analysis in the EIS: land use, transportation, geology and soils, water resources, ecological resources, air quality and climate change, noise, historical and cultural resources, visual and scenic resources, socioeconomics, public and occupational health, waste management, environmental justice, and cumulative impacts. This list is not intended to be exhaustive, nor is it a predetermination of potential environmental impacts.

The NRC staff will also conduct a safety review to determine TRISO-X's compliance with NRC's regulations, including 10 CFR part 20, “Standards for Protection Against Radiation” and 10 CFR part 70. The NRC staff's findings for the safety review will be published in a safety evaluation report.

IV. Request for Comment

As part of its environmental review, the NRC will first conduct a scoping process and, as soon as practicable thereafter, will prepare a draft EIS for public comment. Participation in this scoping process by members of the public and local, State, Tribal, and Federal government agencies is encouraged. The scoping process for the draft EIS will be used to accomplish the following:

a. Define the proposed action that is to be the subject of the EIS;

b. Determine the scope of the EIS and identify the significant issues to be analyzed in depth;

c. Identify and eliminate from detailed study those issues that are peripheral or are not significant or that have been covered by prior environmental review;

d. Identify any environmental assessments and other ElSs that are being or will be prepared that are related to, but are not part of, the scope of the EIS under consideration;

e. Identify other environmental review and consultation requirements related to the proposed action;

f. Indicate the relationship between the timing of the preparation of the environmental analyses and the NRC's tentative planning and decision-making schedule;

g. Identify any cooperating agencies and, as appropriate, allocate assignments for preparation and schedules for completing the EIS to the NRC and any cooperating agencies; and

h. Describe how the EIS will be prepared, including any contractor assistance to be used.

The NRC invites the following entities to participate in scoping:

a. The applicant, TRISO-X, LLC.;

b. Any Federal agency that has jurisdiction by law or special expertise with respect to any environmental impact involved or that is authorized to develop and enforce relevant environmental standards;

c. Affected State and local government agencies, including those authorized to develop and enforce relevant environmental standards;

d. Any affected Indian Tribe;

e. Any person who requests or has requested an opportunity to participate in the scoping process; and

f. Any person who has petitioned or intends to petition for leave to intervene under 10 CFR 2.309.

Additionally, the NRC will hold a public scoping meeting on January 25, 2023, to receive scoping comments in person in accordance with 10 CFR 51.26. The time and location for the meeting will be noticed on the NRC public website at least 10 days prior at https://www.nrc.gov/pmns/mtg.

After the close of the scoping period, the NRC staff will prepare a concise summary of its scoping process, the comments received, as well as the NRC's responses to comments. The Scoping Summary Report will be made available to the public either as a separate document or as an appendix to the draft EIS.

The NRC staff will also have a public comment period for the draft EIS. Availability of the draft EIS and the dates of the public comment period will be announced in a future Federal Register notice. The final EIS will include NRC's responses to public comments received on the draft EIS.

Dated: December 9, 2022.
For the Nuclear Regulatory Commission.
John M. Moses,
Deputy Director, Division of Rulemaking, Environmental Review and Financial Review, Office of Nuclear Material Safety and Safeguards.

[FR Doc. 2022-27164 Filed 12-15-22; 8:45 am]

BILLING CODE 7590-01-P